DEPARTMENT OF COMMERCE

National Oceanic and Atmospheric Administration

RIN 0648-XA339

Marine Mammals; File No. 15271

AGENCY: National Marine Fisheries Service (NMFS), National Oceanic and Atmospheric Administration (NOAA), Commerce.

ACTION: Notice; issuance of permit amendment.

SUMMARY: Notice is hereby given that James T. Harvey, Moss Landing Marine Laboratories, 8272 Moss Landing Road, Moss Landing, CA 95039 has been issued a minor amendment to Scientific Research Permit No. 15271.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Amy Hapeman, (301) 427-8401.

SUPPLEMENTARY INFORMATION: The requested amendment has been granted under the authority of the Marine Mammal Protection Act of 1972, as amended (16 U.S.C. 1361 et seq.) and the regulations governing the taking and importing of marine mammals (50 CFR part 216), and the Endangered Species Act of 1973, as amended (ESA; 16 U.S.C. 1531 et seq.), the regulations governing the taking, importing, and exporting of endangered and threatened species (50 CFR parts 222-226).

The original permit (No. 15271), issued on March 25, 2011 (64 FR 18534), authorized Dr. Harvey to conduct research on blue (Balaenoptera musculus), fin (B. physalus), humpback (Megaptera novaeangliae), and gray (Eschrichtius robustus) whales through March 31, 2016. The minor amendment (No. 15721-01) extends the duration of the permit through March 31, 2017, but does not change any other terms or conditions of the permit.

Dated: April 21, 2016.
Julia Harrison,
Chief, Permits and Conservation Division, Office of Protected Resources, National Marine Fisheries Service.

[FR Doc. 2016-10036 Filed 4-28-16; 8:45 am]

BILLING CODE 3510-22-P